DEPARTMENT OF THE INTERIOR

National Park Service

[NPS-WASO-NRNHL-22126; PPWOCRADI0, PCU00RP14.R50000]

National Register of Historic Places; Notification of Pending Nominations and Related Actions

AGENCY: National Park Service, Interior.

ACTION: Notice.

SUMMARY: The National Park Service is soliciting comments on the significance of properties nominated before October 1, 2016, for listing or related actions in the National Register of Historic Places.

DATES: Comments should be submitted by November 14, 2016.

ADDRESSES: Comments may be sent via U.S. Postal Service to the National Register of Historic Places, National Park Service, 1849 C St. NW., MS 2280, Washington, DC 20240; by all other carriers, National Register of Historic Places, National Park Service, 1201 Eye St. NW., 8th floor, Washington, DC 20005; or by fax, 202-371-6447.

SUPPLEMENTARY INFORMATION: The properties listed in this notice are being considered for listing or related actions in the National Register of Historic Places. Nominations for their consideration were received by the National Park Service before October 1, 2016. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

GEORGIA

Fulton County

Sears, Roebuck and Co. Mail-Order Warehouse and Retail Store, 675 Ponce de Leon Ave. NE., Atlanta, 16000769

MASSACHUSETTS

Middlesex County

Reeves Tavern, 126 Old Connecticut Path, Wayland, 16000770

MISSOURI

Jackson County

West Bottoms—North Historic District, (Railroad Related Historic Commercial and Industrial Resources in Kansas City, Missouri MPS), W. 9th St., St. Louis Ave., Union Ave. from Wyoming to W. of Mulberry Sts., Kansas City, 16000771

MONTANA

Glacier County

Rising Wolf, (Glacier National Park MPS), Glacier National Park, St. Mary, 16000772

NEBRASKA

Douglas County

Hanscom Apartments, (Apartments, Flats and Tenements in Omaha, Nebraska from 1880-1962 MPS), 1029 Park Ave., Omaha, 16000773

Holy Sepulchre Cemetery, 4912 Leavenworth St., Omaha, 16000774

Scott—Omaha Tent and Awning Company, 1501 Howard St., Omaha, 16000775

Keith County

Alkali Station, (Conflict & Warfare in the North & South Platte Valleys of Nebraska, 1864-1865 MPS), Address Restricted, Roscoe, 16000776

NEW JERSEY

Sussex County

Evans—Waters Cottage, 11 Grandview Rd., Lake Wallkill, Vernon Township, 16000777

NEW YORK

Dutchess County

Poughkeepsie and Connecticut Stanfordville Station, 5-15 Old Depot Way, Stanfordville, 16000778

Monroe County

Maplewood Historic District (Boundary Increase), 21-267 Alameda, 26-284 Albemarle, 21-148 Augustine, 36-68 Birr Sts., 1-9, Burke Terrace, 1136-1212 Dewey Ave., Rochester, 16000779

New York County

Hudson Theatre, 139-141 W. 44th St., New York, 16000780

WYOMING

Washakie County

Saban, James T., Lookout,

Approx. .9 mi. SW. of US 16 & FS Rd. 429, Ten Sleep, 16000781

A request for removal has been received for the following resource:

NEBRASKA

Cedar County

Bow Valley Mills, N. of Wynot, Wynot, 78003402

Authority: 60.13 of 36 CFR part 60.

Dated: October 7, 2016.
Christopher Hetzel,
Acting Chief, National Register of Historic Places/National Historic Landmarks Program.

[FR Doc. 2016-26056 Filed 10-27-16; 8:45 am]

BILLING CODE 4312-52-P